DEPARTMENT OF HEALTH AND HUMAN SERVICES

Administration on Aging

Agency Information Collection Activities; Submission for OMB Review; Comment Request; Extension of Certification on Maintenance of Effort for the Title III and Certification of Long-Term Care Ombudsman Program Expenditures

AGENCY: Administration on Aging, HHS.

ACTION: Notice.

SUMMARY: The Administration on Aging (AoA) is announcing that the proposed collection of information listed below has been submitted to the Office of Management and Budget (OMB) for review and clearance under the Paperwork Reduction Act of 1995.

DATES: Submit written comments on the collection of information by July 31, 2008.

ADDRESSES: Submit written comments on the collection of information by fax 202.395.6974 to the OMB Desk Officer for AoA, Office of Information and Regulatory Affairs, OMB.

FOR FURTHER INFORMATION CONTACT: Rodd Clay, e-mail: rodd.clay@aoa.hhs.gov.

SUPPLEMENTARY INFORMATION: In compliance with 44 U.S.C. 3507, AoA has submitted the following proposed collection of information to OMB for review and clearance. With respect to the following collection of information, AoA invites comments on: (1) Whether the proposed collection of information is necessary for the proper performance of AoA's functions, including whether the information will have practical utility; (2) the accuracy of AoA's estimate of the burden of the proposed collection of information, including the validity of the methodology and assumptions used; (3) ways to enhance the quality, utility, and clarity of the information to be collected; and (4) ways to minimize the burden of the collection of information on respondents, including through the use of automated collection techniques when appropriate, and other forms of information technology.

The Certification on Maintenance of Effort for the Title III and Certification of Long-Term Care Ombudsman Program Expenditures provides statutorily required information regarding state's contribution to programs funded under the Older Americans Act and conformance with legislative requirements, pertinent Federal regulations and other applicable instructions and guidelines issued by Administration on Aging (AoA). This information will be used for Federal oversight of Title III Programs and Title VII Ombudsman Program.

AoA estimates the burden of this collection of information as follows: 56 State Agencies on Aging respond annually which should be an average burden of one half (½) hour per State agency per year or a total of twenty-eight hours for all state agencies annually. In the Federal Register of March 19, 2008 (Vol. 73, No. 54 Page 14821), the agency requested comments on the proposed collection of information. No comments on the content of the collection were received.

Dated: June 26, 2008.
Josefina G. Carbonell,
Assistant Secretary for Aging.

[FR Doc. E8-14898 Filed 6-30-08; 8:45 am]

BILLING CODE 4154-01-P